DEPARTMENT OF COMMERCE

Foreign-Trade Zones Board

[B-48-2020]

Foreign-Trade Zone (FTZ) 201—Holyoke, Massachusetts, Authorization of Production Activity, ProAmpac Holdings, Inc. (Flexible Packaging Applications), Westfield, Massachusetts

On July 27, 2020, ProAmpac Holdings, Inc., submitted a notification of proposed production activity to the FTZ Board for its facility within Subzone 201D, in Westfield, Massachusetts.

The notification was processed in accordance with the regulations of the FTZ Board (15 CFR part 400), including notice in the Federal Register inviting public comment (85 FR 47166, August 4, 2020). On November 24, 2020, the applicant was notified of the FTZ Board's decision that no further review of the activity is warranted at this time. The production activity described in the notification was authorized, subject to the FTZ Act and the FTZ Board's regulations, including Section 400.14.

Dated: November 24, 2020.
Andrew McGilvray,
Executive Secretary.

[FR Doc. 2020-26498 Filed 11-30-20; 8:45 am]

BILLING CODE 3510-DS-P